DEPARTMENT OF COMMERCE

National Oceanic and Atmospheric Administration

50 CFR Part 660

[Docket No. 220510-0113; RTID 0648-XC101]

Fisheries Off West Coast States; Modification of the West Coast Salmon Fisheries; Inseason Actions #12 Through #15

AGENCY: National Marine Fisheries Service (NMFS), National Oceanic and Atmospheric Administration (NOAA), Commerce.

ACTION: Inseason modification of 2022 management measures.

SUMMARY: NMFS announces four inseason actions in the 2022 ocean salmon fisheries. These inseason actions modify the commercial ocean salmon fisheries in the area from the United States (U.S.)/Canada border to Cape Falcon, Oregon.

DATES: The effective dates for the inseason actions are set out in this document under the heading Inseason Actions and the actions remain in effect until superseded or modified.

FOR FURTHER INFORMATION CONTACT: Dana Preedeedilok at 562-980-4019, Email: dana.preedeedilok@noaa.gov.

SUPPLEMENTARY INFORMATION:

Background

The 2022 annual management measures for ocean salmon fisheries (87 FR 29690, May 16, 2022), announced management measures for the commercial and recreational fisheries in the area from the U.S./Canada border to the U.S./Mexico border, effective from 0001 hours Pacific Daylight Time (PDT), May 16, 2022, until the effective date of the 2023 management measures, as published in the Federal Register. NMFS is authorized to implement inseason management actions to modify fishing seasons and quotas as necessary to provide fishing opportunity while meeting management objectives for the affected species (50 CFR 660.409). Inseason actions in the salmon fishery may be taken directly by NMFS (50 CFR 660.409(a)—Fixed inseason management provisions) or upon consultation with the Chairman of the Pacific Fishery Management Council (Council), and the appropriate State Directors (50 CFR 660.409(b)—Flexible inseason management provisions).

Management of the salmon fisheries is divided into two geographic areas: north of Cape Falcon (NOF) (U.S./Canada border to Cape Falcon, OR), and south of Cape Falcon (SOF) (Cape Falcon, OR, to the U.S./Mexico border). The actions described in this document affect the NOF commercial salmon fishery, as set out under the heading Inseason Action below.

Consultations with the Council Chairperson on these inseason actions occurred on May 16, 2022; May 25, 2022; and June 9, 2022. Representatives from NMFS, Washington Department of Fish and Wildlife, Oregon Department of Fish and Wildlife, and Council staff participated in these consultations.

These inseason actions were announced on NMFS' telephone hotline and U.S. Coast Guard radio broadcast on the date of the consultations (50 CFR 660.411(a)(2)).

Inseason Actions

Inseason Action #12

Description of the action: Inseason action #12 modifies the Chinook salmon landing and possession limit for the commercial salmon troll fishery in the area between Leadbetter Point and Queets River (Westport subarea) to 150 Chinook salmon per vessel per week (Thursday-Wednesday) starting 12:01 a.m. May 19, 2022.

Effective date: Inseason action #12 took effect on May 16, 2022 and remains in effect until superseded.

Reason for the action: Inseason action #12 established a landing and possession limit for the area between Leadbetter Point and Queets River (Westport subarea), where it has not existed before, in response to an increase in vessels entering the fishery and an increase in Chinook salmon landings. The establishment of a landing and possession limit in this area will preserve the length of the season and ensure that the Chinook salmon quota is not exceeded.

Inseason Action #13

Description of the action: Inseason action #13 modifies the Chinook salmon landing and possession limit for the commercial salmon troll fishery across the entire NOF area, regardless of subarea, to: 40 Chinook salmon per vessel per week (Thursday-Wednesday) starting 12:01 a.m. May 26 through 11:59 p.m. June 8, 2022; and 20 Chinook salmon per vessel per week (Thursday-Wednesday) starting 12:01 a.m. June 9 through 11:59 p.m. June 29, 2022.

Effective date: Inseason action #13 took effect on May 25, 2022, and remains in effect until June 29, 2022.

Reason for the action: In the area NOF, there has been an increase of vessels entering the fishery resulting in an overall increase in Chinook salmon landings. The purpose of inseason #13 is to modify the landing and possession limits for the entire area to avoid exceding the quota set preseason.

Ineseason Action #14

Description of the action: Inseason action #14 modifes the Chinook salmon landing and possession limit for the commercial salmon troll fishery NOF from 20 Chinook salmon per vessel per week (Thursday-Wednesday) to 25 Chinook salmon per vessel per week (Thursday-Wednesday) starting at 12:01 a.m. on June 10, 2022.

Effective date: Inseason action #14 took effect on June 10, 2022, and remains in effect until superseded.

Reason for the action: Due to increasing fuel prices and lowered landing and possesion limit, there have been impacts on the economics of the fishery and effort has declined. The increase in the landing and possession limit will result in increased fishing interest and allow greater access to approach the quota without exceeding it. The NOF May-June commercial salmon fishery has a quota of 18,000 Chinook salmon. Of that quota, 16,457 were caught, leaving a quota of 1,543 Chinook salmon uncaught. Any remaining quota from the May-June fishery may be rolled over to the July-September fishery on an impact-neutral basis.

Inseason Action #15

Description of the action: Inseason action #15 modifies the commercial salmon troll fishery in the area NOF. Starting at 11:59 p.m. on June 15, 2022, through June 30, 2022, this fishery is closed.

Effective date: Inseason action #15 took effect on June 15, 2022, and remains in effect until June 30, 2022.

Reason for the action: The purposed of inseason action #15 is to avoid exceeding the area of NOF quota for Chinook salmon.

The NMFS West Coast Regional Administrator (RA) considered the landings of Chinook salmon to date, fishey catch and effort to date, the amount of quota remaining, and the timing of the action relative to the length of the season, and determined that these inseason actions were necessary to avoid exceeding the subarea quotas set preseason, provide greater fishing opportunity, and provide economic benefit to the fishery dependent community. Inseason actions to modify quotas and/or fishing seasons is authorized under 50 CFR 660.409(b)(1)(i).

All other restrictions and regulations remain in effect as announced for the 2022 ocean salmon fisheries (87 FR 29690, May 16, 2022).

The RA determined that these inseason actions were warranted based on the best available information on Pacific salmon abundance forecasts, landings to date, anticipated fishery effort and projected catch, and the other factors and considerations set forth in 50 CFR 660.409. The states manage the fisheries in state waters adjacent to the areas of the U.S. exclusive economic zone (3-200 nautical miles (5.6-370.4 kilometers) off the coasts of the states of Washington, Oregon, and California) consistent with these Federal actions. As provided by the inseason notice procedures at 50 CFR 660.411, actual notice of the described regulatory action was given, prior to the time the action was effective, by telephone hotline numbers 206-526-6667 and 800-662-9825, and by U.S. Coast Guard Notice to Mariners broadcasts on Channel 16 VHF-FM and 2182 kHz.

Classification

NMFS issues these actions pursuant to section 305(d) of the Magnuson-Stevens Fishery Conservation and Management Act (MSA). These actions are authorized by 50 CFR 660.409, which was issued pursuant to section 304(b) of the MSA, and are exempt from review under Executive Order 12866.

Pursuant to 5 U.S.C. 553(b)(3)(B), there is good cause to waive prior notice and an opportunity for public comment on this action, as notice and comment would be impracticable and contrary to the public interest. Prior notice and opportunity for public comment on this action was impracticable because NMFS had insufficient time to provide for prior notice and the opportunity for public comment between the time Chinook salmon abundance, catch, and effort information were developed and fisheries impacts were calculated, and the time the fishery modifications had to be implemented in order to ensure that fisheries are managed based on the best scientific information available and that fishery participants can take advantage of the additional fishing opportunity these changes provide. As previously noted, actual notice of the regulatory actions was provided to fishers through telephone hotline and radio notification. These actions comply with the requirements of the annual management measures for ocean salmon fisheries (87 FR 29690, May 16, 2022), the Fishery Management Plan (FMP), and regulations implementing the FMP under 50 CFR 660.409 and 660.411.

There is good cause under 5 U.S.C. 553(d)(3) to waive the 30-day delay in effective date, as a delay in effectiveness of this action would restrict fishing at levels inconsistent with the goals of the FMP and the current management measures.

Authority: 16 U.S.C. 1801 et seq.

Dated: July 6, 2022.
Jennifer M. Wallace,
Acting Director, Office of Sustainable Fisheries, National Marine Fisheries Service.

[FR Doc. 2022-14753 Filed 7-11-22; 8:45 am]

BILLING CODE 3510-22-P